FEDERAL COMMUNICATIONS COMMISSION

47 CFR Part 73

[DA 03-3556; MB Docket No.03-58; RM-10608]

Radio Broadcasting Services; Meigs and Pelham, GA

AGENCY: Federal Communications Commission.

ACTION: Final rule; denial.

SUMMARY: This document denies a Petition for Reconsideration filed by Mitchell County Television of action in the Report and Order in MB Docket 03-58. See 68 FR 40186, July 7, 2003. The Report and Order in this proceeding reallotted Channel 222A from Pelham, Georgia, to Meigs, Georgia, modifying the license for Station WQLI, in response to a petition filed by Mitchell County Television. With this action, this proceeding is terminated.

FOR FURTHER INFORMATION CONTACT: Kathleen Scheuerle, Media Bureau, (202) 418-2180.

SUPPLEMENTARY INFORMATION: This is a summary of the Commission's Memorandum Opinion and Order, MB Docket No. 03-58, adopted November 12, 2003, and released November 14, 2003. The full text of this Commission decision is available for inspection and copying during regular business hours in the FCC's Reference Information Center, Portals II, 445 12th Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

Federal Communications Commission.
John A. Karousos,
Assistant Chief, Audio Division, Media Bureau.

[FR Doc. 03-29519 Filed 11-25-03; 8:45 am]

BILLING CODE 6712-01-P